NUCLEAR REGULATORY COMMISSION

[NRC-2010-0115]

Regulatory Guide 8.24, Revision 2, Health Physics Surveys During Enriched Uranium-235 Processing and Fuel Fabrication

AGENCY: Nuclear Regulatory Commission.

ACTION: Notice of issuance; availability.

SUMMARY: The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

ADDRESSES: Please refer to Docket ID NRC-2010-0115 when contacting the NRC about the availability of information regarding this document. You may access information related to this document, which the NRC possesses and are publicly available, using the following methods:

• Federal Rulemaking Web site: Go to http://www.regulations.gov and search for Docket ID NRC-2010-0115. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

FOR FURTHER INFORMATION CONTACT: Gregory Chapman, Uranium Enrichment Branch, Division of Fuel Cycle Safety and Safeguards, Office of Nuclear Material Safety and Safeguards, U.S. Nuclear Regulatory Commission, Washington, DC 20555-0001; telephone: 301-492-3106 or email to: Gregory.Chapman@nrc.gov.

SUPPLEMENTARY INFORMATION:

I. Introduction

Revision 2 of Regulatory Guide 8.24, “Health Physics Surveys During Enriched Uranium-235 Processing and Fuel Fabrication” was issued with a temporary identification as Draft Regulatory Guide, DG-8040 on March 22, 2010 (75 FR 13599). This guide specifies the types and frequencies of surveys that are acceptable to the NRC's staff for the protection of workers in plants licensed by the NRC to process enriched uranium and fabricate uranium fuel.

Title 10 of the Code of Federal Regulations (10 CFR) 20.1501(a), requires each licensee to make or cause to be made such surveys that may be necessary for compliance with the regulations in 10 CFR part 20, “Standards for Protection Against Radiation.” Section 20.1003, the definitions section of 10 CFR part 20, defines the term “survey” as “an evaluation of the radiological conditions and potential hazards incident to the production, use, transfer, release, disposal, or presence of radioactive material or other sources of radiation.”

This guide does not relate to the processing of uranium-233, nor does it deal specifically with the following aspects of an acceptable occupational health physics program that are closely related to surveys: (1) The number and qualification of the health physics staff, (2) instrumentation, including types, numbers of instruments, limitations of use, accuracy, and calibration, (3) personnel dosimetry, and (4) bioassays.

II. Further Information

On March 22, 2010, DG-8040 was published with a request for public comments (75 FR 13599). The public comment period closed on May 3, 2010. Electronic copies of Regulatory Guide 8.24, Revision 2 are available through the NRC's public Web site under “Regulatory Guides” at http://www.nrc.gov/reading-rm/doc-collections/ and through the NRC's Agencywide Documents Access and Management System (ADAMS) at http://www.nrc.gov/reading-rm/adams.html, under Accession No. ML110400305. The regulatory analysis may be found in ADAMS under Accession No. ML110400310. Staff's responses to public comments on DG-8040 are available under ML110400315.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by email to pdr@nrc.gov.

Regulatory guides are not copyrighted, and NRC approval is not required to reproduce them.

For the Nuclear Regulatory Commission.
Dated at Rockville, Maryland, this 25th day of May 2012.
Edward O'Donnell,
Acting Chief, Regulatory Guide Development Branch, Division of Engineering, Office of Nuclear Regulatory Research.

[FR Doc. 2012-13622 Filed 6-4-12; 8:45 am]

BILLING CODE 7590-01-P